Title 3—

The President

Proclamation 10178 of April 13, 2021

Black Maternal Health Week, 2021

By the President of the United States of America

A Proclamation

In the United States of America, a person's race should never determine their health outcomes, and pregnancy and childbirth should be safe for all. However, for far too many Black women, safety and equity have been tragically denied. America's maternal mortality rates are among the highest in the developed world, and they are especially high among Black mothers, who die from complications related to pregnancy at roughly two to three times the rate of white, Hispanic, Asian American, and Pacific Islander women—regardless of their income or education levels. This week, I call on all Americans to recognize the importance of addressing the crisis of Black maternal mortality and morbidity in this country.

Ensuring that all women have equitable access to health care before, during, and after pregnancy is essential. The Biden-Harris Administration is committed to addressing these unacceptable disparities, and to building a health care system that delivers equity and dignity to Black, Indigenous, and other women and girls of color.

Health care is a right, not a privilege, and our country needs a health care system that works for all of us. That is something both Vice President Harris and I have fought for throughout our careers. As a Senator, Vice President Harris was a champion of Black maternal health, introducing legislation to close gaps in access to quality maternal care and educate providers about implicit bias. And during my time as Vice President, I fought for the Affordable Care Act and to strengthen Medicaid, both of which ensure access to critical services to support maternal health. Within just a few years of the Affordable Care Act's passage, Black uninsured rates dramatically declined—a key factor in ensuring better maternal health outcomes—as did the persistent health insurance coverage gap between Black and white Americans, which fell by more than 40 percent in the wake of the law's implementation.

As we fight to bring an end to the COVID-19 crisis, we will continue to make quality health care more accessible and affordable for all Americans, as we did through the passage of the landmark American Rescue Plan. We will also work to ensure that everyone—including hospitals, insurance plans, and health care providers—do their part to provide every American with quality, affordable, and equitable care.

Vice President Harris and I are committed to pursuing systemic policies that provide comprehensive, holistic maternal health care that is free from bias and discrimination. The morbidity and mortality disparities that Black mothers face are not the results of isolated incidents. Our Nation must root out systemic racism everywhere it exists, including by addressing unequal social determinants of health that often contribute to racial disparities such as adequate nutrition and housing, toxin-free environments, high-paying job sectors that provide paid leave, and workplaces free of harassment and discrimination.

Addressing systemic barriers across the board will improve outcomes for Black mothers and their families, and make our entire country stronger, healthier, and more prosperous. At the same time, the United States must also grow and diversify the perinatal workforce, improve how we collect data to better understand the causes of maternal death and complications from birth, and invest in community-based organizations to help reduce the glaring racial and ethnic disparities that persist in our health care system.

NOW, THEREFORE, I, JOSEPH R. BIDEN JR., President of the United States of America, by virtue of the authority vested in me by the Constitution and the laws of the United States, do hereby proclaim April 11 through April 17, 2021, as Black Maternal Health Week. I call upon all Americans to raise awareness of the state of Black maternal health in the United States by understanding the consequences of systemic discrimination, recognizing the scope of this problem and the need for urgent solutions, amplifying the voices and experiences of Black women, families, and communities, and committing to building a world in which Black women do not have to fear for their safety, their wellbeing, their dignity, and their lives before, during, and after pregnancy.

IN WITNESS WHEREOF, I have hereunto set my hand this thirteenth day of April, in the year of our Lord two thousand twenty-one, and of the Independence of the United States of America the two hundred and forty-fifth.

[FR Doc. 2021-08008

Filed 4-15-21; 8:45 am]

Billing code 3295-F1-P